ENVIRONMENTAL PROTECTION AGENCY

[EPA-HQ-OAR-2015-0533; FRL-9932-31-OAR ]

Proposed Agency Information Collection Request: Comment Request; Servicing of Motor Vehicle Air Conditioners, EPA ICR Number 1617.08, OMB Control Number 2060-0247

AGENCY: Environmental Protection Agency (EPA).

ACTION: Notice.

SUMMARY: The Environmental Protection Agency (EPA) is planning to submit an information collection request (ICR), “Servicing of Motor Vehicle Air Conditioners” (EPA ICR No. 1617.08, OMB Control No. 2060-0247) to the Office of Management and Budget (OMB) for review and approval in accordance with the Paperwork Reduction Act (44 U.S.C. 3501 et seq.). Before doing so, EPA is soliciting public comments on specific aspects of the proposed information collection as described below. This is a proposed extension of the ICR, which is currently approved through October 31, 2015. An Agency may not conduct or sponsor and a person is not required to respond to a collection of information unless it displays a currently valid OMB control number.

DATES: Comments must be submitted on or before October 13, 2015.

ADDRESSES: Submit your comments, referencing Docket ID No. EPA-HQ-OAR-2015-0533, online using www.regulations.gov (our preferred method), by email to a-and-r-docket@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Rebecca von dem Hagen, Environmental Protection Agency, Stratospheric Protection Division, Office of Atmospheric Programs, MC 6205J, Environmental Protection Agency, 1200 Pennsylvania Ave. NW., Washington, DC 20460; telephone number: (202) 343-9445; fax number: (202) 343-2362; email address: vondemhagen.rebecca@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Section 609 of the Clean Air Act Amendments of 1990 (Act) provides general guidelines for the recovery and recycling of motor vehicle air conditioners. It states that “no person repairing or servicing motor vehicles for consideration may perform any service on a motor vehicle air conditioner involving the refrigerant for such air conditioner without properly using approved refrigerant recovery and/or recovery and recycling equipment (hereafter referred to as “refrigerant handling equipment”) and no such person may perform such service unless such person has been properly trained and certified.” In 1992, EPA developed regulations under section 609 that were published in 57 FR 31240, and codified at 40 CFR Subpart B (Section 82.30 et seq.). The information required to be collected under the Section 609 regulations is: Approved refrigerant handling equipment; approved independent standards testing organizations; technician training and certification; and certification, reporting and recordkeeping.

Form Numbers: None.

Respondents/affected entities: The following is a list of NAICS codes for organizations potentially affected by the information requirements covered under this ICR. It is meant to include any establishment that may service or maintain motor vehicle air conditioners.

4411 Automobile Dealers

4413 Automotive Parts, Accessories, and Tire Stores

44711 Gasoline Stations with Convenience Stores

45299 All Other General Merchandise Stores

811198 All Other Automotive Repair and Maintenance

Other affected groups include:

—Independent Standards Testing Organizations

—Organizations with Technician Certification Programs

Respondent's obligation to respond: Mandatory (40 CFR 82.36, 82.38, 82.40, 82.42).

Estimated number of respondents: 52,616 per year.

Frequency of response: On occasion.

Total estimated burden: 4,523 hours per year. Burden is defined at 5 CFR 1320.03(b).

Total estimated cost: $208,307.40 per year, includes $0 annualized capital or operation & maintenance costs.

Changes in Estimates: The Agency anticipates that the total estimated respondent burden will stay substantially the same, or decrease compared with the ICR currently approved by OMB. The Agency anticipates a decrease in the respondent burden for new equipment certifications due to adjustments in the calculation to estimate the burden resulting from required submissions. The Agency also anticipates the respondent burden for updates to certification programs to increase slightly, while the number of new technician certification programs compiling documents for submission to EPA for verification of the program is expected to stay the same.

Dated: August 5, 2015.
Sarah Dunham,
Director, Office of Atmospheric Programs.

[FR Doc. 2015-20032 Filed 8-12-15; 8:45 am]

BILLING CODE 6560-50-P